DEPARTMENT OF THE INTERIOR

National Park Service

Notice of Inventory Completion: University of California, Riverside, Riverside, CA

AGENCY: National Park Service, Interior.

ACTION: Notice.

Notice is here given in accordance with provisions of the Native American Graves Protection and Repatriation Act (NAGPRA), 25 U.S.C. 3003, of the completion of an inventory of human remains in the possession of the University of California, Riverside, Riverside, CA. The human remains were removed from a site in Yucaipa, San Bernardino County, CA.

This notice is published as part of the National Park Service’s administrative responsibilities under NAGPRA, 25 U.S.C. 3003 (d)(3). The determinations within this notice are the sole responsibility of the museum, institution, or Federal agency that has control of the Native American human remains. The National Park Service is not responsible for the determinations within this notice.

A detailed assessment of the human remains was made by professional staff of the University of California, Riverside in consultation with the Morongo Band of Cahuilla Mission Indians of the Morongo Reservation, California and San Manual Band of Serrano Mission Indians of the San Manual Reservation, California.

In 1976-1977, human remains representing one individual were excavated by the University of California, Riverside from site CA-SBR-1000, Yucaipa, San Bernardino County, CA. The remains are several fragments of a human cranium. A human metatarsal was also catalogued but cannot be located in the collection. No known individual was identified. No associated funerary objects are present. Site CA-SBR-1000 includes both Archaic period (6500 B.C. to A.D. 500) and Late Prehistoric/Protohistoric period (A.D. 1500 to 1825) components. The human remains are believed to have come from the Late Prehistoric/Protohistoric component of the site.

Ethnohistoric evidence indicates that the area around Yucaipa, CA, was occupied by the Serrano tribe during the Protohistoric period. In 1918, Serrano consultants identified the town of Yucaipa, where site CA-SBR-1000 is located, as the site of the Serrano village of Jukai’pa’, Jukai’pa’t, or Jukai’pit. The Serrano tribe is currently represented by the Morongo Band of Cahuilla Mission Indians of the Morongo Reservation, California and San Manual Band of Serrano Mission Indians of the San Manual Reservation, California.

Officials of the University of California, Riverside have determined that, pursuant to 25 U.S.C. 3001 (9-10), the human remains described above represent the physical remains of one individual of Native American ancestry. Officials of the University of California, Riverside also have determined that, pursuant to 25 U.S.C. 3001 (2), there is a relationship of shared group identity that can be reasonably traced between the Native American human remains and the Morongo Band of Cahuilla Mission Indians of the Morongo Reservation, California and San Manual Band of Serrano Mission Indians of the San Manual Reservation, California.

Representatives of any other Indian tribe that believes itself to be culturally affiliated with the human remains should contact Philip J. Wilke, Department of Anthropology, 1334 Watkins Hall, University of California, Riverside, Riverside, CA 92521-0418, telephone (909) 787-5524, before June 2, 2003. Repatriation of the human remains to the Morongo Band of Cahuilla Mission Indians of the Morongo Reservation, California and San Manual Band of Serrano Mission Indians of the San Manuel Reservation, California may proceed after that date if no additional claimants come forward.

The University of California, Riverside is responsible for notifying the Morongo Band of Cahuilla Mission Indians of the Morongo Reservation, California and San Manual Band of Serrano Mission Indians of the San Manual Reservation, California that this notice has been published.

Dated: March 17, 2003.
John Robbins,
Assistant Director, Cultural Resources.

[FR Doc. 03-10917 Filed 5-1-03; 8:45 am]

BILLING CODE 4310-70-S